DEPARTMENT OF COMMERCE

National Oceanic and Atmospheric Administration

RIN 0648-XC540

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene scoping meetings to discuss a For-Hire Red Snapper Days-at-Sea Pilot Program.

DATES: The scoping meetings will be held on March 25, 2013 through April 3, 2013 at eight locations throughout the Gulf of Mexico. The scoping meetings will begin at 6 p.m. and will conclude no later than 9 p.m. For specific dates, see SUPPLEMENTARY INFORMATION.

ADDRESSES: The scoping meetings will be held in the following locations: St. Petersburg, Naples and Destin, FL; Kenner, LA; Biloxi/Gulfport, MS; Orange Beach, AL; Corpus Christi and Galveston, TX.

Council address: Gulf of Mexico Fishery Management Council, 2203 N. Lois Avenue, Suite 1100, Tampa, FL 33607.

FOR FURTHER INFORMATION CONTACT: Drs. Assane Diagne, Economist and Ava Lasseter, Anthropologist; Gulf of Mexico Fishery Management Council; telephone: (813) 348-1630.

SUPPLEMENTARY INFORMATION: The Gulf of Mexico Fishery Management Council has scheduled scoping meetings on a proposed amendment addressing the For-Hire Red Snapper Days-at-Sea Pilot Program. The days-at-sea program would apply to the charter industry. Issues to be discussed include, but are not limited to, the purpose and need for this amendment and the potential management actions that may be considered. Management actions under consideration range from the selection of program participants to the establishment of effort and catch validation methods and criteria for program evaluation.

The eight scoping meetings will begin at 6 p.m. and conclude at the end of public testimony or no later than 9 p.m. at the following locations:

Monday, March 25, 2013, Courtyard Marriott, 1600 E. Beach Boulevard, Gulfport, MS 39501, telephone: (228) 864-4310.

Tuesday, March 26, 2013; Fairfield Inn & Suites, 3111 Loop Road, Orange Beach, AL 36561, telephone: (251) 543-4444.

Wednesday, March 27, 2013; Destin Community Center, 101 Stahlman Avenue, Destin, FL 32541, telephone: (850) 654-5184; Courtyard Marriott, 3250 US 41 North, Naples, FL 34103, telephone: (239) 434-8700.

Monday, April 1, 2013; Hilton Galveston Island, 5400 Seawall Boulevard, Galveston Island, TX 77551, telephone: (409) 744-5000.

Tuesday, April 2, 2013; Hilton St. Petersburg Carillon Park, 950 Lake Carillon Drive, St. Petersburg, FL 33716, telephone: (727) 540-0050; Hilton Garden Inn, 6717 S. Padre Island Drive, Corpus Christi, TX 78412, telephone: (361) 991-8200.

Wednesday, April 3, 2013; Crowne Plaza New Orleans Airport, 2829 Williams Boulevard, Kenner, LA 70062, telephone: (504) 467-5611.

Copies of the scoping document will be available two weeks prior to the first scoping meeting and can be obtained by calling (813) 348-1630, or from the Council Web site at http://www.gulfcouncil.org/fishery_management_plans/scoping-thru-implementation.php.

Special Accommodations

These meetings are physically accessible to people with disabilities. Requests for sign language interpretation or other auxiliary aids should be directed to Kathy Pereira at the Council (see ADDRESSES) at least 5 working days prior to the meeting.

Dated: March 5, 2013.
Tracey L. Thompson,
Acting Deputy Director, Office of Sustainable Fisheries, National Marine Fisheries Service.

[FR Doc. 2013-05427 Filed 3-7-13; 8:45 am]

BILLING CODE 3510-22-P